FEDERAL COMMUNICATIONS COMMISSION

47 CFR Part 73

[DA 06-341; MB Docket No. 05-118; RM-11183; RM-11301; RM-11302]

Radio Broadcasting Services; Cuba and Knoxville, IL

AGENCY: Federal Communications Commission.

ACTION: Final rule.

SUMMARY: In response to a Notice of Proposed Rule Making, 70 FR 17047 (April 4, 2005) this Report and Order grants a proposal to allot Channel 292A to Cuba, Illinois, as a first local aural transmission service to that community and denies two requests to allot a second FM channel to Knoxville, Illinois. The coordinates for Channel 292A at Cuba, Illinois are 40-25-50 North Latitude and 90-14-05 West Longitude, with a site restriction of 7.9 kilometers (4.9 miles) southwest of Cuba, Illinois.

DATES: Effective April 3, 2006.

FOR FURTHER INFORMATION CONTACT: R. Barthen Gorman, Media Bureau, (202) 418-2180.

SUPPLEMENTARY INFORMATION: This is a synopsis of the Commission's Report and Order, MB Docket No. 05-118, adopted February 15, 2006, and released February 17, 2006. The full text of this Commission decision is available for inspection and copying during normal business hours in the FCC's Reference Information Center at Portals II, 445 12th Street, SW., Room CY-A257, Washington, DC, 20554. The new copy contractor, Best Copy and Printing, Inc., 445 12th Street, SW., Room CY-B402, Washington, DC 20554, telephone 1-800-378-3160 or http://www.BCPIWEB.com. The document may also be purchased from the Commission's duplicating contractor. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Illinois, is amended by adding Cuba, Channel 292A.

Federal Communications Commission.
John A. Karousos,
Assistant Chief, Audio Division, Media Bureau.

[FR Doc. 06-2326 Filed 3-14-06; 8:45 am]

BILLING CODE 6712-01-P